ENVIRONMENTAL PROTECTION AGENCY

[FRL-9245-9]

Notice of Prevention of Significant Deterioration Final Determination for Russell City Energy Center

AGENCY: Environmental Protection Agency (“EPA”).

ACTION: Notice of final action.

SUMMARY: This notice announces that on November 18, 2010, the Environmental Appeals Board (EAB) of the EPA denied Petitions for Review of a Federal Prevention of Significant Deterioration (PSD) Permit issued to Russell City Energy Center, LLC by the Bay Area Air Quality Management District (“BAAQMD”).

DATES: The effective date for the EAB's decision is November 18, 2010. Pursuant to section 307(b)(1) of the Clean Air Act, 42 U.S.C. 7607(b)(1), judicial review of this permit decision, to the extent it is available, may be sought by filing a Petition for Review in the United States Court of Appeals for the Ninth Circuit on or before March 4, 2011.

ADDRESSES: The documents relevant to this notice are available for public inspection during normal business hours at the following address: U.S. Environmental Protection Agency, Region 9, 75 Hawthorne St., San Francisco, CA 94105. To arrange viewing of these documents, call Shaheerah Kelly at (415) 947-4156. Due to building security procedures, please call Ms. Kelly at least 24 hours before you would like to view the documents.

FOR FURTHER INFORMATION CONTACT: Shaheerah Kelly, Air Division, U.S. Environmental Protection Agency, Region 9, 75 Hawthorne St., San Francisco, CA 94105. Anyone who wishes to review the EAB decision can obtain it at http://www.epa.gov/eab/.

SUPPLEMENTARY INFORMATION: Notification of EAB Final Decision: The BAAQMD, acting under authority of a PSD delegation agreement dated February 4, 2008, issued a PSD permit to Russell City Energy Center, LLC, on February 3, 2010, granting approval to construct a new 600-megawatt natural gas-fired combined-cycle power plant in Hayward, California. Five petitioners filed timely Petitions for Review of the PSD decision with the EAB. The EAB issued an Order denying the Petitions for review on November 18, 2010. One petitioner filed a Motion and Supplemental Motion for Reconsideration and/or Clarification and Stay of the EAB's November 18, 2010 Order.

On December 17, 2010, the EAB issued an Order denying the Motion and Supplemental Motion for Reconsideration and/or Clarification and Stay.

Dated: December 20, 2010.
Kerry Drake,
Acting Director, Air Division, Region 9.

[FR Doc. 2010-32969 Filed 12-30-10; 8:45 am]

BILLING CODE 6560-50-P